DEPARTMENT OF ENERGY

[Docket No. EA-227-A]

Application To Export Electric Energy; New York Independent System Operator, Inc.

AGENCY: Office of Fossil Energy, DOE.

ACTION: Notice of application.

SUMMARY: The New York Independent System Operator, Inc. (NYISO) has applied to modify and renew its authority to transmit electric energy from the United States to Canada pursuant to section 202(e) of the Federal Power Act. In addition, NYISO is requesting expedited approval for their application.

DATES: Comments, protests or requests to intervene must be submitted on or before December 17, 2001.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On October 16, 2001, the Office of Fossil Energy (FE) of the Department of Energy (DOE) received an application from NYISO to modify and renew the electricity export authorization issued in FE Order EA-227 on September 7, 2000. In that Order, FE authorized NYISO, the entity with operational control over generation and transmission facilities within New York State, to export emergency and inadvertent energy to Canada using the international transmission facilities owned and operated by Long Sault, Inc., New York Power Authority, and Niagra Mohawk Power Corporation. In Order EA-227, FE limited the NYISO's exports to Canada to an instantaneous rate of transmission of 1000 megawatts (MW). That two-year Order will expire on September 7, 2002.

FE had based this 1000-MW limit on data contained in Section IX of the document titled, “Load & Capacity Data, 1995 Report of the Member Electric Systems of the New York Power Pool.” The updated version of that report for the year 2001 reflects a normal power transfer limit from New York to Ontario of 1675 MW, and an emergency transfer limit of 2150 MW for limited periods of time. In its application, the NYISO requests that FE Order EA-227 be amended to reflect these updated transfer limits and that the amended Order be issued for an additional 5-years.

In numerous electricity export authorizations in which third parties have been authorized to export over existing international transmission facilities that they do not own or operate, FE has indicated that any change to the export limits assigned to those existing facilities would apply to all entities authorized to export over those facilities. If FE ultimately authorizes the increased export limits requested in this proceeding, those increased limits also would be available to all entities already authorized to use the affected international transmission facilities.

Procedural Matters

Any person desiring to become a party to this proceeding or to be heard by filing comments or protests to this application should file a petition to intervene, comment or protest at the address provided above in accordance with 385.211 or 385.214 of the FERC's rules of practice and procedures (18 CFR 385.211, 385.214). Fifteen copies of each petition and protest should be filed with the DOE on or before the date listed above.

Comments on the NYISO application to export electric energy to Canada should be clearly marked with Docket EA-227. Additional copies are to be filed directly with Michael C. Calimano, Vice President Operations & Reliability, Robert Fernandez, General Counsel, New York Independent System Operator, Inc., 3890 Carman Road, Schenectady, NY 12303 and Arnold H. Quint, Hunton & Williams, 1900 K Street, NW., Suite 1200, Washington, DC 20006.

At the time this notice is being published, delivery of both regular and overnight mail to the Department of Energy headquarters building has been disrupted. DOE will consider facsimile transmissions to 202-287-5736, received before the closing date, as timely. Commenters should also submit original documents using traditional mail systems.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation” and then “Pending Proceedings” from the options menus.

Issued in Washington, D.C., on November 26, 2001.
Anthony J. Como,
Deputy Director, Electric Power Regulation, Office of Coal & Power Im/Ex, Office of Coal & Power Systems, Office of Fossil Energy.

[FR Doc. 01-29758 Filed 11-29-01; 8:45 am]

BILLING CODE 6450-01-P